DEPARTMENT OF VETERANS AFFAIRS

Veterans' Advisory Committee on Education; Notice of Meeting

The Department of Veterans Affairs (VA) gives notice under Public Law 92-463 (Federal Advisory Committee Act) that the Veterans' Advisory Committee on Education will meet on October 13-14, 2005, at the Key Bridge Marriott, 1401 Lee Highway, Arlington, VA 22209. On October 13, the session will begin at 12:30 p.m. and end at 4 p.m. On October 14, the session will begin at 8:30 a.m. and end at 4 p.m. The meeting is open to the public.

The purpose of the Committee is to advise the Secretary of Veterans Affairs on the administration of education and training programs for veterans, servicepersons, reservists, and dependents of veterans under Chapters 30, 32, 35, and 36 of Title 38, and Chapter 1606 of Title 10, United States Code.

On October 13, the meeting will begin with opening remarks and an overview by Mr. James Bombard, Committee Chair. The Committee will discuss the total force GI Bill concept, use of private and corporate funds to support educational programs, claims processing improvements, and comparison of GI Bill rates to the cost of attending a 4-year public college. On October 14, the Committee will participate in a panel discussion with the National Association of Veterans' Program Administrators (NAVPA). The Committee will then review and summarize issues raised during this meeting. Oral statements will be heard at 1 p.m.

Interested persons may file written statements to the Committee before the meeting, or within 10 days after the meeting, with Mrs. Judith B. Timko, Designated Federal Officer, Department of Veterans Affairs, Veterans Benefits Administration (225B), 810 Vermont Avenue, NW., Washington, DC 20420. Any member of the public wishing to attend the meeting should contact Mrs. Timko or Mr. Michael Yunker at (202) 273-7187.

Dated: September 21, 2005.
By Direction of the Secretary.
E. Philip Riggin,
Committee Management Officer.

[FR Doc. 05-19406 Filed 9-28-05; 8:45 am]

BILLING CODE 8320-01-M